DEPARTMENT OF THE INTERIOR

Minerals Management Service

[Docket No. MMS-2008-OMM-0041]

MMS Information Collection Activity: 1010-0048, Geological and Geophysical (G&G) Explorations of the Outer Continental Shelf, Revision of a Collection; Submitted for Office of Management and Budget Review; Comment Request

AGENCY: Minerals Management Service (MMS), Interior.

ACTION: Notice of extension of an information collection (1010-0048).

SUMMARY: To comply with the Paperwork Reduction Act of 1995 (PRA), we are notifying the public that we have submitted to the Office of Management and Budget an information collection request (ICR) to renew approval of the paperwork requirements in the regulations under 30 CFR part 251, “Geological and Geophysical (G&G) Explorations of the Outer Continental Shelf,” and related documents. This notice also provides the public a second opportunity to comment on the paperwork burden of these regulatory requirements.

DATES: Submit written comments by July 8, 2009.

ADDRESSES: You may submit comments by any either of the following methods listed below.

• Either by fax (202) 395-5806 or email (OIRA_DOCKET@omb.eop.gov) directly to the Office of Information and Regulatory Affairs, OMB, Attention: Desk Officer for the Department of the Interior (1010-0048).

• Electronically: go to http://www.regulations.gov. Under the tab More Search Options, click Advanced Docket Search, then select Minerals Management Service from the agency drop-down menu, then click submit. In the Docket ID column, select MMS-2008-OMM-0041 to submit public comments and to view supporting and related materials available for this rulemaking. Information on using Regulations.gov, including instructions for accessing documents, submitting comments, and viewing the docket after the close of the comment period, is available through the site's User Tips link. The MMS will post all comments.

• Mail or hand-carry comments to the Department of the Interior; Minerals Management Service; Attention: Cheryl Blundon; 381 Elden Street, MS-4024; Herndon, Virginia 20170-4817. Please reference Information Collection 1010-0048 in your subject line and mark your message for return receipt. Include your name and return address in your message text.

FOR FURTHER INFORMATION CONTACT: Cheryl Blundon, Regulations and Standards Branch, (703) 787-1607. You may also contact Cheryl Blundon to obtain a copy, at no cost, of the regulations and the form that require the subject collection of information.

SUPPLEMENTARY INFORMATION: Title: 30 CFR Part 251, Geological and Geophysical (G&G) Explorations of the Outer Continental Shelf.

Form: MMS-327, Application for Permit to Conduct Geological or Geophysical Exploration for Mineral Resources or Scientific Research in the Outer Continental Shelf.

OMB Control Number: 1010-0048.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

The OCS Lands Act (43 U.S.C. 1340) also states that “any person authorized by the Secretary may conduct geological and geophysical explorations in the [O]uter Continental Shelf, which do not interfere with or endanger actual operations under any lease maintained or granted pursuant to this OCS Lands Act, and which are not unduly harmful to aquatic life in such area.” The section further requires that permits to conduct such activities may only be issued if it is determined that the applicant is qualified; the activities are not polluting, hazardous, or unsafe; they do not interfere with other users of the area; and they do not disturb a site, structure, or object of historical or archaeological significance. Applicants for permits are required to submit Form MMS-327 to provide the information necessary to evaluate their qualifications. Upon approval, respondents are issued a permit.

The OCS Lands Act (43 U.S.C. 1352) further requires that certain costs be reimbursed to the parties submitting required G&G information and data. Under the OCS Lands Act, permittees are to be reimbursed for the costs of reproducing any G&G data required to be submitted. Permittees are to be reimbursed also for the reasonable cost of processing geophysical information required to be submitted when processing is in a form or manner required by the Director of the Minerals Management Service (MMS) and is not used in the normal conduct of the business of the permittee.

The Independent Offices Appropriations Act (31 U.S.C. 9701), the Omnibus Appropriations Bill (Pub. L. 104-133, 110 Stat. 1321, April 26, 1996), and the Office of Management and Budget (OMB) Circular A-25, authorize Federal agencies to recover the full cost of services that confer special benefits. Under the Department of the Interior's (DOI) implementing policy, the MMS is required to charge the full cost for services that provide special benefits or privileges to an identifiable non-Federal recipient above and beyond those that accrue to the public at large. The G&G permits are subject to cost recovery, and MMS regulations specify the filing fee for the application.

Regulations to carry out these responsibilities are contained in 30 CFR part 251. This is a routine renewal request of the currently approved information collection (IC) aspects of these regulations.

Responses are generally on occasion or as specified in each permit and the responses are mandatory or are required to obtain or retain a benefit. No questions of a sensitive nature are asked. The MMS protects information according to the Freedom of Information Act (5 U.S.C. 552) and its implementing regulations (43 CFR part 2), and under regulations at 30 CFR 251.

The MMS uses the information to ensure there is no environmental degradation, personal harm or unsafe operations and conditions, damage to historical or archaeological sites, or interference with other uses; to analyze and evaluate preliminary or planned drilling activities; to monitor progress and activities in the OCS; to acquire G&G data and information collected under a federal permit offshore; and to determine eligibility for reimbursement from the government for certain costs. The information is necessary to determine if the applicants for permits or filers of notices meet the qualifications specified by the OCS Lands Act. The MMS uses information collected to understand the G&G characteristics of oil- and gas-bearing physiographic regions of the OCS. It aids the Secretary in obtaining a proper balance among the potentials for environmental damage, the discovery of oil and gas, and adverse impacts on affected coastal states. Information from permittees is necessary to determine the propriety and amount of reimbursement.

Form MMS-327 is also submitted to MMS under 30 CFR 251 for approval. The MMS needs this information to determine if permittees have the necessary qualifications pertinent to G&G explorations or scientific research.

Frequency: Responses are generally on occasion or as specified in each permit.

Estimated Number and Description of Respondents: Potentially 130 respondents (OCS Federal oil, gas, and sulphur permittees and notice filers).

Estimated Reporting and Recordkeeping Hour Burden: The estimated annual hour burden for this information collection is a total of 1,243 hours. The following chart details the individual components and estimated hour burdens. In calculating the burdens, we assumed that respondents perform certain requirements in the normal course of their activities. We consider these to be usual and customary and took that into account in estimating the burden.

Citation 30 CFR 251 | Reporting and recordkeeping requirement | Hour burden | Average number of annual responses | Annual burden hours
| Non-hour cost burden
30 CFR 251.1 through 251.6
251.4(a), (b); 251.5(a), (b), (d); 251.6; 251.7 | Apply for permits (Form MMS-327) to conduct G&G exploration, including deep stratigraphic tests/revisions when necessary | 3 | 144 applications | 432
|  | 144 applications × $2,012 = $289,728
251.4(b); 251.5(c), (d); 251.6 | File notices to conduct scientific research activities, including notice to MMS prior to beginning and after concluding activities | 1 | 3 notices | 3
251.6(b); 251.7(b)(5) | Notify MMS if specific actions should occur; report archaeological resources (no instances reported since 1982) | 1 | 1 notice | 1
Subtotal |  |  | 148 responses | 436
|  |  | $289,728 non-hour cost burden
30 CFR 251.7 through 251.9
251.7 | Submit information on test drilling activities under a permit, including Forms MMS-123 and MMS-123S | Burden included under 1010-0141 |  | 0
251.7(c) | Enter into agreement for group participation in test drilling, including publishing summary statement; provide MMS copy of notice/list of participants (no agreements submitted since 1989) | 1 | 1 agreement | 1
251.7(d) | Submit bond(s) on deep stratigraphic test | Burden included under 30 CFR part 256 (1010-0006) |  | 0
251.8(a) | Request reimbursement for certain costs associated with MMS inspections (no requests in many years. OCS Lands Act requires Government reimbursement) | 1 | 1 request | 1
251.8(b), (c) | Submit modifications to, and status/final reports on, activities conducted under a permit | 2 | 55 submissions × 3 reports = 165 | 330
251.9(c) | Notify MMS to relinquish a permit | ½ | 2 notices | 1
Subtotal |  |  | 169 responses | 333
30 CFR 251.10 through 251.13
251.10(c) | File appeals | Exempt under 5 CFR 1320.4(a)(2), (c) |  | 0
251.11; 251.12 | Notify MMS and submit G&G data and/or information collected under a permit and/or processed by permittees or 3rd parties, including reports, logs or charts, results, analyses, descriptions, etc | 4 | 40 submissions | 160
251.13 | Request reimbursement for certain costs associated with reproducing data/information | 2 | 40 submissions | 80
Subtotal |  |  | 80 responses | 240
30 CFR 251.14
251.14(a) | Submit comments on MMS intent to disclose data and/or information to the public | 1 | 1 submission | 1
251.14(c)(2) | Submit comments on MMS intent to disclose data and/or information to an independent contractor/agent | 1 | 1 submission | 1
251.14(c)(4) | Contractor/agent submits written commitment not to sell, trade, license, or disclose data and/or information without MMS consent | 1 | 1 submission | 1
251.1-251.14 | General departure and alternative compliance requests not specifically covered elsewhere in part 251 regulations | 1 | 1 request | 1
Subtotal |  |  | 4 responses | 4
Extension for Permit Form & Recordkeeping
Permit form (Form MMS-327) | Request extension of permit time period | 1 | 100 extensions | 100
| Retain G&G data/information for 10 years and make available to MMS upon request | 1 | 130 recordkeepers | 130
Subtotal |  |  | 230 responses | 230
Total burden |  |  | 631 responses | 1,243
|  |  | $289,728 non-hour cost burden

Estimated Reporting and Recordkeeping Non-Hour Cost Burden: We have identified one paperwork non-hour cost burden associated with this collection of information. Under 251.5(a), there is an application fee of $2,012. We have not identified any other paperwork non-hour cost burden associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on March 31, 2009, we published a Federal Register notice (74 FR 14576) announcing that we would submit this ICR to OMB for approval. The notice provided the required 60-day comment period. In addition, § 251.15 provides the OMB control number for the information collection requirements imposed by the 30 CFR part 251 regulations and form. The regulation and form also inform the public that they may comment at any time on the collection of information and provide the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by July 8, 2009.

Public Availability of Comments: Before including your address, phone number, email address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: April 17, 2009.
E.P. Danenberger,
Chief, Office of Offshore Regulatory Programs.

[FR Doc. E9-13245 Filed 6-5-09; 8:45 am]

BILLING CODE 4310-MR-P